DEPARTMENT OF TRANSPORTATION

Federal Aviation Administration

Agency Information Collection Activities: Requests for Comments; Clearance of Renewed Approval of Information Collection: QSA Customer Feedback Report

AGENCY: Federal Aviation Administration (FAA), DOT.

ACTION: Notice and request for comments.

SUMMARY: In accordance with the Paperwork Reduction Act of 1995, FAA invites public comments about our intention to request the Office of Management and Budget (OMB) approval to renew an information collection. The information is collected from holders of FAA production approvals and selected suppliers in the form of a feedback survey, to obtain their input on how well the agency is performing the administration and conduct of the Aircraft Certification Systems Quality System Audit (QSA).

DATES: Written comments should be submitted by October 15, 2018.

ADDRESSES: Send comments to the FAA at the following address: Barbara Hall, Federal Aviation Administration, ASP-110, 10101 Hillwood Parkway, Fort Worth, TX 76177.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall by email at: Barbara.L.Hall@faa.gov; phone: 940-594-5913.

SUPPLEMENTARY INFORMATION: OMB Control Number: 2120-0605.

Title: QSA Customer Feedback Report.

Form Numbers: FAA Form 8100-7.

Type of Review: Renewal of an information collection.

Background: The information collection is voluntary and is collected by way of a self-addressed stamped envelope. The information collected is used by the local field offices, manufacturing inspection offices and the surveillance and oversight policy section of AIR-600 to improve the administration and conduct of the QSA at the local and national levels. Improvements to FAA Order 8120.23, Certificate Management of Production Approval Holders, have been and will continue to be incorporated as a result of the on-going collection of data. It will also be used for reporting as a Customer Service Standard in fulfillment of Executive Order 12862, Setting Customer Service Standards, dated September 11, 1993.

Respondents: Approximately 150 holders of FAA production approvals and selected suppliers.

Frequency: Information is collected on occasion.

Estimated Average Burden per Response: 30 minutes.

Estimated Total Annual Burden: 100 hours.

Issued in Washington, DC, on August 9, 2018.
Robin Darden,
Management Support Specialist, Performance, Policy, and Records Management Branch, ASP-110.

[FR Doc. 2018-17598 Filed 8-14-18; 8:45 am]

BILLING CODE 4910-13-P